DEPARTMENT OF ENERGY

Federal Energy Regulatory Commission

[Docket No. RP02-221-000]

Pine Needle LNG Company, LLC; Notice of Proposed Changes in FERC Gas Tariff

April 5, 2002.

Take notice that on March 29, 2002, Pine Needle LNG Company, LLC (Pine Needle) tendered for filing as part of its FERC Gas Tariff, Original Volume No. 1, Third Revised First Revised Tariff Sheet No. 4, with an effective date of May 1, 2002.

Pine Needle states that the instant filing is being submitted pursuant to Section 18 and Section 19 of the General Terms and Conditions (GT&C) of Pine Needle's FERC Gas Tariff (Tariff). Section 18 of the GT&C of Pine Needle's Tariff states that Pine Needle will file, to be effective each May 1, a redetermination of its fuel retention percentage applicable to storage services. Section 19 of the GT&C of Pine Needle's Tariff provides that Pine Needle will file, also to be effective each May 1, to reflect net changes in the Electric Power (EP) rates.

Pine Needle states that it is serving copies of the instant filing to its affected customers, interested State Commissions and other interested parties.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-8913 Filed 4-11-02; 8:45 am]

BILLING CODE 6717-01-P